DEPARTMENT OF HEALTH AND HUMAN SERVICES

Centers for Medicare & Medicaid Services

Notice of Grant Award to Waimanalo Health Center for a Project Entitled, “The Hauula Community Diabetes Screening Program”

AGENCY: Centers for Medicare & Medicaid Services (CMS), HHS.

ACTION: Notice of grant award.

SUMMARY: The Centers for Medicare & Medicaid Services has awarded a grant entitled “The Hauula Community Diabetes Screening Program” to the Waimanalo Health Center, 41-1347 Kalanianaole Highway, Waimanalo, Hawaii 96795, in response to an unsolicited application.

Purpose: The Waimanalo Health Center proposes to provide diabetes and related risk factor health screening as well as relevant health educational and behavioral intervention services to the geographically isolated, mostly-Samoan community of Hauula (pop. 3,651) on Oahu. Services will be targeted to its Samoan citizens but open to all residents of Hauula regardless of their ethnicity.

Total Amount of Award: $987,317.

Project Period: September 30, 2004, through March 30, 2006.

Sole Source Justification: This unsolicited proposal is responsive to the Senate Appropriations Committee's commitment to the concept of a demonstration project for American Samoans in Hawaii that will integrate social services, to include traditional health, preventive health, prevention and disease management, and address the health disparities among Native Hawaiians and other minority populations by utilizing the expertise of the Waimanalo Health Center. The grant will provide diabetes and related risk factor health screening, as well as relevant health educational and behavioral intervention services, to the geographically isolated, mostly-Samoan community of Hauula on Oahu, but project services will be made available to all Hauula residents regardless of their ethnicity. These services will help improve the administration and effectiveness of programs carried on or assisted under the Social Security Act and programs related thereto. The appropriation to the CMS research budget was increased to include funding to carry out this project.

FOR FURTHER INFORMATION CONTACT: Mary Kapp, Project Officer, Division of Beneficiary Research; Research and Evaluation Group; Office of Research Development, and Information, C3-19-07, 7500 Security Boulevard, Baltimore, MD 21244, (410) 786-0360, or Judith Norris, Grants Officer, OICS/AGG/CMS, C2-21-15, 7500 Security Boulevard, Baltimore, MD 21244, (410) 786-5130.

Authority: (Catalog of Federal Domestic Assistance Program No. 93.779 (CMS) Research, Demonstrations and Evaluations) Section 1110 of the Social Security Act.

Dated: October 29, 2004.
Mark B. McClellan,
Administrator, Centers for Medicare & Medicaid Services.

[FR Doc. 04-24765 Filed 11-4-04; 8:45 am]

BILLING CODE 4120-01-P